DEPARTMENT OF ENERGY

Federal Energy Regulatory Commission

Combined Notice of Filings #1

Take notice that the Commission received the following electric rate filings:

Docket Numbers: ER10-2124-006; ER10-2125-007; ER10-2127-005; ER10-2128-006; ER10-2129-005; ER10-2130-006; ER10-2131-006; ER10-2132-006; ER10-2133-006; ER10-2134-004; ER10-2135-005; ER10-2136-005; ER10-2137-006; ER10-2138-006; ER10-2139-006; ER10-2140-006; ER10-2141-006; ER10-2764-006; ER11-3872-007; ER11-4044-007; ER11-4046-006; ER12-161-005; ER12-164-005; ER12-645-007; ER14-25-002.

Applicants: Spring Canyon Energy LLC, Judith Gap Energy LLC, Invenergy TN LLC, Wolverine Creek Energy LLC, Grays Harbor Energy LLC, Forward Energy LLC, Grand Ridge Energy LLC, Grand Ridge Energy V LLC, Grand Ridge Energy II LLC, Grand Ridge Energy III LLC, Grand Ridge Energy IV LLC, Willow Creek Energy LLC, Hardee Power Partners Limited, Spindle Hill Energy LLC, Invenergy Cannon Falls LLC, Beech Ridge Energy LLC, Vantage Wind Energy LLC, Stony Creek Energy LLC, Gratiot County Wind II LLC, Gratiot County Wind LLC, Bishop Hill Energy LLC, Bishop Hill Energy III LLC, California Ridge Wind Energy LLC, Prairie Breeze Wind Energy LLC.

Description: Notification of Change in Facts of Spring Canyon Energy LLC, et. al.

Filed Date: 1/17/14.

Accession Number: 20140117-5107.

Comments Due: 5 p.m. ET 2/7/14.

Docket Numbers: ER10-2374-004; ER10-1533-005.

Applicants: Puget Sound Energy, Inc., Macquarie Energy LLC.

Description: Second Amendment to June 28, 2013 Triennial Updated Market Power Analysis in the Northwest Region of Puget Sound Energy, Inc., et. al.

Filed Date: 1/16/14.

Accession Number: 20140116-5127.

Comments Due: 5 p.m. ET 2/6/14.

Docket Numbers: ER10-2718-016; ER10-2719-016.

Applicants: EAST COAST POWER LINDEN HOLDINGS, LLC, Cogen Technologies Linden Venture, L.P.

Description: Notice of Non-Material Change in Status of Cogen Technologies Linden Venture, L.P., et. al.

Filed Date: 1/16/14.

Accession Number: 20140116-5152.

Comments Due: 5 p.m. ET 2/6/14.

Docket Numbers: ER11-2447-002.

Applicants: Pacific Northwest Generating Cooperative.

Description: Updated Market Power Analysis of Pacific Northwest Generating Cooperative, Inc. under ER11-2447.

Filed Date: 1/16/14.

Accession Number: 20140116-5153.

Comments Due: 5 p.m. ET 3/17/14.

Docket Numbers: ER11-3859-007; ER13-2477-002; ER10-1946-005; ER11-3863-006; ER13-2476-002; ER11-3861-006; ER11-3864-007; ER13-2475-002; ER11-3866-007; ER12-192-005; ER11-3867-007; ER11-3857-007; ER11-4266-006.

Applicants: Brayton Point Energy, LLC, Broad River Energy LLC, Dighton Power, LLC, ELWOOD ENERGY LLC, Empire Generating Co, LLC, EquiPower Resources Management, LLC, Kincaid Generation, L.L.C., Lake Road Generating Company, L.P., Liberty Electric Power, LLC, MASSPOWER, Milford Power Company, LLC, Richland-Stryker Generation LLC.

Description: Notice of Change in Status of the ECP MBR Sellers.

Filed Date: 1/16/14.

Accession Number: 20140116-5142.

Comments Due: 5 p.m. ET 2/6/14.

Docket Numbers: ER13-1654-002.

Applicants: PJM Interconnection, L.L.C.

Description: PJM response to FERC Staff Request for Add'l Inform Dec 18 2013-ER13-1654-001 to be effective N/A.

Filed Date: 1/16/14.

Accession Number: 20140116-5126.

Comments Due: 5 p.m. ET 2/6/14.

Docket Numbers: ER13-1877-001.

Applicants: ISO New England Inc., New England Power Pool Participants Committee.

Description: Compliance ER13-1877—Energy Mkt Flex Chges to be effective 12/3/2014.

Filed Date: 1/17/14.

Accession Number: 20140117-5020.

Comments Due: 5 p.m. ET 2/7/14.

Docket Numbers: ER14-1003-001.

Applicants: Berry Petroleum Company.

Description: Notice of Non-Material Change in Status of Berry Petroleum Company.

Filed Date: 1/15/14.

Accession Number: 20140115-5196.

Comments Due: 5 p.m. ET 2/5/14.

Docket Numbers: ER14-1008-000.

Applicants: AEP Texas Central Company.

Description: TCC-OCI Alamo 4 Interconnection Agreement to be effective 12/26/2013.

Filed Date: 1/16/14.

Accession Number: 20140116-5090.

Comments Due: 5 p.m. ET 2/6/14.

Docket Numbers: ER14-1009-000.

Applicants: AEP Texas North Company.

Description: TNC-Barilla Solar Interconnection Agreement to be effective 12/26/2013.

Filed Date: 1/16/14.

Accession Number: 20140116-5093.

Comments Due: 5 p.m. ET 2/6/14.

Docket Numbers: ER14-1010-000.

Applicants: NorthWestern Corporation.

Description: SA 708—Calumet Montana Refining Construction Agreement to be effective 1/17/2014.

Filed Date: 1/16/14.

Accession Number: 20140116-5105.

Comments Due: 5 p.m. ET 2/6/14.

Docket Numbers: ER14-1011-000.

Applicants: Duke Energy Progress, Inc.

Description: OATT Camden NITSA SA 309 to be effective 1/1/2014.

Filed Date: 1/16/14.

Accession Number: 20140116-5111.

Comments Due: 5 p.m. ET 2/6/14.

Docket Numbers: ER14-1012-000.

Applicants: Portland General Electric Company.

Description: Service Agreements Under the PGE OATT to be effective 1/1/2014.

Filed Date: 1/16/14.

Accession Number: 20140116-5114.

Comments Due: 5 p.m. ET 2/6/14.

Docket Numbers: ER14-1013-000.

Applicants: Entergy Gulf States Louisiana, L.L.C.

Description: EGSL-LaGen Big Cajun II LGIA to be effective 12/16/2013.

Filed Date: 1/17/14.

Accession Number: 20140117-5000.

Comments Due: 5 p.m. ET 2/7/14.

Docket Numbers: ER14-1014-000.

Applicants: Bridgeport Energy LLC.

Description: Filing in Compliance with Order No. 784 to be effective 11/27/2013.

Filed Date: 1/17/14.

Accession Number: 20140117-5022.

Comments Due: 5 p.m. ET 2/7/14.

Docket Numbers: ER14-1015-000.

Applicants: Your Energy Holdings, LLC.

Description: Notice of Cancellation of Market Based Rate Tariff and Request for Waiver of Form 566 filing of Your Energy Holdings, LLC.

Filed Date: 1/16/14.

Accession Number: 20140116-5151.

Comments Due: 5 p.m. ET 2/6/14.

Docket Numbers: ER14-1016-000.

Applicants: Stony Creek Energy LLC.

Description: Revised Market-Based Rate Tariff Filing to be effective 1/18/2014.

Filed Date: 1/17/14.

Accession Number: 20140117-5032.

Comments Due: 5 p.m. ET 2/7/14.

Docket Numbers: ER14-1017-000.

Applicants: Bishop Hill Energy III LLC.

Description: Revised Market-Based Rate Tariff Filing to be effective 1/18/2014.

Filed Date: 1/17/14.

Accession Number: 20140117-5034.

Comments Due: 5 p.m. ET 2/7/14.

Docket Numbers: ER14-1018-000.

Applicants: Bishop Hill Energy LLC.

Description: Revised Market-Based Rate Tariff Filing to be effective 1/18/2014.

Filed Date: 1/17/14.

Accession Number: 20140117-5035.

Comments Due: 5 p.m. ET 2/7/14.

Docket Numbers: ER14-1019-000.

Applicants: Gratiot County Wind LLC.

Description: Revised Market-Based Rate Tariff Filing to be effective 1/18/2014.

Filed Date: 1/17/14.

Accession Number: 20140117-5036.

Comments Due: 5 p.m. ET 2/7/14.

Docket Numbers: ER14-1020-000.

Applicants: Gratiot County Wind II LLC.

Description: Revised Market-Based Rate Tariff Filing to be effective 1/18/2014.

Filed Date: 1/17/14.

Accession Number: 20140117-5037.

Comments Due: 5 p.m. ET 2/7/14.

Docket Numbers: ER14-1021-000.

Applicants: Invenergy Cannon Falls LLC.

Description: Revised Market-Based Rate Tariff Filing to be effective 1/18/2014.

Filed Date: 1/17/14.

Accession Number: 20140117-5038.

Comments Due: 5 p.m. ET 2/7/14.

Docket Numbers: ER14-1022-000.

Applicants: California Ridge Wind Energy LLC.

Description: Revised Market-Based Rate Tariff Filing to be effective 1/18/2014.

Filed Date: 1/17/14.

Accession Number: 20140117-5040.

Comments Due: 5 p.m. ET 2/7/14.

Docket Numbers: ER14-1023-000.

Applicants: Forward Energy LLC.

Description: Revised Market-Based Rate Tariff Filing to be effective 1/18/2014.

Filed Date: 1/17/14.

Accession Number: 20140117-5045.

Comments Due: 5 p.m. ET 2/7/14.

Docket Numbers: ER14-1024-000.

Applicants: Grand Ridge Energy V LLC.

Description: Revised Market-Based Rate Tariff Filing to be effective 1/18/2014.

Filed Date: 1/17/14.

Accession Number: 20140117-5046.

Comments Due: 5 p.m. ET 2/7/14.

Docket Numbers: ER14-1025-000.

Applicants: Grand Ridge Energy III LLC.

Description: Revised Market-Based Rate Tariff Filing to be effective 1/18/2014.

Filed Date: 1/17/14.

Accession Number: 20140117-5047.

Comments Due: 5 p.m. ET 2/7/14.

Docket Numbers: ER14-1026-000.

Applicants: Grand Ridge Energy II LLC.

Description: Revised Market-Based Rate Tariff Filing to be effective 1/18/2014.

Filed Date: 1/17/14.

Accession Number: 20140117-5048.

Comments Due: 5 p.m. ET 2/7/14.

Docket Numbers: ER14-1027-000.

Applicants: Grand Ridge Energy IV LLC.

Description: Revised Market-Based Rate Tariff Filing to be effective 1/18/2014.

Filed Date: 1/17/14.

Accession Number: 20140117-5049.

Comments Due: 5 p.m. ET 2/7/14.

Docket Numbers: ER14-1028-000.

Applicants: Grand Ridge Energy LLC.

Description: Revised Market-Based Rate Tariff Filing to be effective 1/18/2014.

Filed Date: 1/17/14.

Accession Number: 20140117-5050.

Comments Due: 5 p.m. ET 2/7/14.

Docket Numbers: ER14-1029-000.

Applicants: Sheldon Energy LLC.

Description: Revised Market-Based Rate Tariff Filing to be effective 1/18/2014.

Filed Date: 1/17/14.

Accession Number: 20140117-5051.

Comments Due: 5 p.m. ET 2/7/14.

Docket Numbers: ER14-1030-000.

Applicants: Beech Ridge Energy LLC.

Description: Revised Market-Based Rate Tariff Filing to be effective 1/18/2014.

Filed Date: 1/17/14.

Accession Number: 20140117-5052.

Comments Due: 5 p.m. ET 2/7/14.

Docket Numbers: ER14-1031-000.

Applicants: Invenergy TN LLC.

Description: Revised Market-Based Rate Tariff Filing to be effective 1/18/2014.

Filed Date: 1/17/14.

Accession Number: 20140117-5053.

Comments Due: 5 p.m. ET 2/7/14.

Docket Numbers: ER14-1032-000.

Applicants: Prairie Breeze Wind Energy LLC.

Description: Revised Market-Based Rate Tariff Filing to be effective 1/18/2014.

Filed Date: 1/17/14.

Accession Number: 20140117-5054.

Comments Due: 5 p.m. ET 2/7/14.

Docket Numbers: ER14-1033-000.

Applicants: Emera Energy Services, Inc.

Description: Filing in Compliance with Order No. 784 to be effective 11/27/2013.

Filed Date: 1/17/14.

Accession Number: 20140117-5073.

Comments Due: 5 p.m. ET 2/7/14.

Docket Numbers: ER14-1034-000.

Applicants: Emera Energy Services Subsidiary No. 3 L.

Description: Filing in Compliance with Order No. 784 to be effective 11/27/2013.

Filed Date: 1/17/14.

Accession Number: 20140117-5098.

Comments Due: 5 p.m. ET 2/7/14.

Docket Numbers: ER14-1035-000.

Applicants: Emera Energy Services Subsidiary No. 4 L.

Description: Filing in Compliance with Order No. 784 to be effective 11/27/2013.

Filed Date: 1/17/14.

Accession Number: 20140117-5104.

Comments Due: 5 p.m. ET 2/7/14.

Docket Numbers: ER14-1036-000.

Applicants: Emera Energy Services Subsidiary No. 5 L.

Description: Filing in Compliance with Order No. 784 to be effective 11/27/2013.

Filed Date: 1/17/14.

Accession Number: 20140117-5112.

Comments Due: 5 p.m. ET 2/7/14.

Docket Numbers: ER14-1037-000.

Applicants: Emera Energy Services Subsidiary No. 6 L.

Description: Filing in Compliance with Order No. 784 to be effective 11/27/2013.

Filed Date: 1/17/14.

Accession Number: 20140117-5113.

Comments Due: 5 p.m. ET 2/7/14.

Docket Numbers: ER14-1038-000.

Applicants: Emera Energy Services Subsidiary No. 7 L.

Description: Filing in Compliance with Order No. 784 to be effective 11/27/2013.

Filed Date: 1/17/14.

Accession Number: 20140117-5114.

Comments Due: 5 p.m. ET 2/7/14.

Docket Numbers: ER14-1039-000.

Applicants: Emera Energy Services Subsidiary No. 8 L.

Description: Filing in Compliance with Order No. 784 to be effective 11/27/2013.

Filed Date: 1/17/14.

Accession Number: 20140117-5115.

Comments Due: 5 p.m. ET 2/7/14.

Docket Numbers: ER14-1041-000.

Applicants: Emera Energy Services Subsidiary No. 9 L.

Description: Filing in Compliance with Order No. 784 to be effective 11/27/2013.

Filed Date: 1/17/14.

Accession Number: 20140117-5128.

Comments Due: 5 p.m. ET 2/7/14.

Docket Numbers: ER14-1042-000.

Applicants: Emera Energy Services Subsidiary No. 10.

Description: Filing in Compliance with Order No. 784 to be effective 11/27/2013.

Filed Date: 1/17/14.

Accession Number: 20140117-5150.

Comments Due: 5 p.m. ET 2/7/14.

Docket Numbers: ER14-1043-000.

Applicants: Emera Energy U.S. Subsidiary No. 1, Inc.

Description: Filing in Compliance with Order No. 784 to be effective 11/27/2013.

Filed Date: 1/17/14.

Accession Number: 20140117-5153.

Comments Due: 5 p.m. ET 2/7/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2014.
Nathaniel J. Davis, Sr.,
Deputy Secretary.

[FR Doc. 2014-01678 Filed 1-28-14; 8:45 am]

BILLING CODE 6717-01-P